DEPARTMENT OF COMMERCE

National Oceanic and Atmospheric Administration

Availability of Seats for the Cordell Bank National Marine Sanctuary Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the Cordell Bank National Marine Sanctuary Advisory Council: Fishing, Primary and Alternate seats; Research, Primary and Alternate seats; Community-at-Large Mann County, Primary and Alternate seats. Applicants are chosen based upon their particular expertise and experience in relation to the seat for which they are applying; community and professional affiliations; philosophy regarding the protection and management of marine resources; and possibly the length of residence in the area affected by the sanctuary. Applicants who are chosen as members should expect to serve three-year terms, pursuant to the council's Charter.

DATES: Applications are due by April 1, 2011.

ADDRESSES: Application kits may be obtained from http://cordellbank.noaa.gov/ or Kaitlin Graiff, kaitlin.graiff@noaa.gov, P.O. Box 159, Olema, CA 94950. Completed applications should be sent to the above postal or e-mail address, or faxed to 415-663-0315, attn. Kaitlin Graiff.

FOR FURTHER INFORMATION CONTACT: Kaitlin Graiff, Advisory Council Coordinator, 415-663-0314 x105, kaitlin.graiff@noaa.gov.

SUPPLEMENTARY INFORMATION: The Cordell Bank National Marine Sanctuary Advisory Council was established in 2001 to ensure continued public participation in the management of the sanctuary. Council seats are occupied by members representing research, conservation, maritime activity, fishing, education, Mann and Sonoma County community at large, as well as Federal agency partners. Individual council members act as liaisons between the Sanctuary and their constituent groups. The council holds a minimum of four regular meetings per year, and an annual retreat in the summer.

Authority: 16 U.S.C. 1431, et seq.

(Federal Domestic Assistance Catalog Number 11.429 Marine Sanctuary Program)

Dated: February 23, 2011.
Daniel J. Basta,
Director, Office of National Marine Sanctuaries, National Ocean Service, National Oceanic and Atmospheric Administration.

[FR Doc. 2011-4709 Filed 3-3-11; 8:45 am]

BILLING CODE 3510-NK-M